DEPARTMENT OF HEALTH AND HUMAN SERVICES

National Institutes of Health

Center for Scientific Review; Amended Notice of Meeting

Notice is hereby given of a change in the meeting of the Hematopoiesis Study Section, June 5, 2008, 8 a.m. to June 6, 2008, 11 a.m., Hyatt Regency Bethesda, One Bethesda Metro Center, 7400 Wisconsin Avenue, Bethesda, MD, 20814, which was published in the Federal Register on April 11, 2008, 73 FR 19855-19857.

The meeting will be held one day only June 5, 2008, from 8 a.m. to 7 p.m. The meeting location remains the same. The meeting is closed to the public.

Dated: April 17, 2008.
Jennifer Spaeth,
Director, Office of Federal Advisory Committee Policy.

[FR Doc. E8-9005 Filed 4-24-08; 8:45 am]

BILLING CODE 4140-01-M